DEPARTMENT OF THE INTERIOR

Fish and Wildlife Service

Recovery Plan for Phlox hirsuta (Yreka Phlox)

AGENCY: Fish and Wildlife Service, Interior.

ACTION: Notice of document availability.

SUMMARY: We, the U.S. Fish and Wildlife Service, announce the availability of the Recovery Plan for Phlox hirsuta (Yreka Phlox). This plant is a narrow endemic known only from the vicinity of the City of Yreka, Siskiyou County, California.

ADDRESSES: Printed copies of this recovery plan will be available in 4 to 6 weeks by request from the U.S. Fish and Wildlife Service, Yreka Fish and Wildlife Office, 1829 South Oregon Street, Yreka, California 96097 (telephone: 530-842-5763). An electronic copy of this recovery plan is now available at: http://endangered.fws.gov/recovery/index.html#plans.

FOR FURTHER INFORMATION CONTACT: Nadine R. Kanim, Senior Fish and Wildlife Biologist, (telephone: 530-842-5763), at the Yreka address above (telephone: 530-842-5763).

SUPPLEMENTARY INFORMATION:

Background

Restoring endangered or threatened animals and plants to the point where they are again secure, self-sustaining members of their ecosystems is a primary goal of the Service's endangered species program. To help guide the recovery effort, the Service is working to prepare recovery plans for most of the listed species native to the United States. Recovery plans describe actions considered necessary for the conservation of the species, establish criteria for downlisting or delisting listed species, and estimate time and cost for implementing the recovery measures needed.

The Endangered Species Act (ESA) requires the development of recovery plans for listed species unless such a plan would not promote the conservation of a particular species. Section 4(f) of the ESA requires that public notice and an opportunity for public review and comment be provided during recovery plan development. The Draft Recovery Plan for Phlox hirsuta (Yreka Phlox) was available for public comment from July 19, 2004, through October 18, 2004 (69 FR 43009). Information presented during the public comment period has been considered in the preparation of this final recovery plan, and is summarized in Appendix 8 of the recovery plan.

Phlox hirsuta was listed as endangered in 2000 (65 FR 5268). Critical habitat has not been designated for this species. Phlox hirsuta is endemic to serpentine soils, and is known from only five separate locations that are separated by a minimum of 0.55 miles (0.88 kilometers). Distribution of Phlox hirsuta within these occurrences ranges from scattered plants to numerous discrete suboccurrences that are found on lands owned and managed by the City of Yreka, the U.S. Forest Service, California Department of Transportation, industrial timber companies, and private landowners.

Phlox hirsuta is threatened by alteration or destruction of habitat resulting from residential development, logging, fire suppression activities, ongoing highway maintenance or construction activities, off-road vehicle use, illegal collection, and vandalism. Other threats include competition with exotic plants, herbicide application, grazing by domestic animals, inadequate existing regulatory mechanisms, and potential extirpation as a result of random events.

The objective of this recovery plan is to provide a framework for the recovery of Phlox hirsuta so that protection by the ESA is no longer necessary. This recovery plan establishes criteria necessary to accomplish downlisting and eventually delisting of Phlox hirsuta. The criteria for downlisting to threatened status are that: (1) Four occurrences (two of which must be the China Hill and Soap Creek Ridge occurrences) have secure permanent protection (legally-binding arrangements that ensure management for the benefit of Phlox hirsuta in perpetuity), and (2) a Phlox hirsuta seed bank and effective propagation techniques have been established. The criteria for delisting are: (1) The reclassification criteria for downlisting have been met, and (2) two additional occurrences have been located and permanently protected, or 10 years of demographic research and/or quantitative monitoring at four protected occurrences has indicated that plant population size has not declined more than 10 percent at any occurrence (total change between year 0 and year 10).

Authority

The authority for this action is section 4(f) of the Endangered Species Act, 16 U.S.C. 1533(f).

Dated: July 27, 2006.
Steve Thompson,
Manager, California/Nevada Operations Office, U.S. Fish and Wildlife Service.

[FR Doc. 06-7713 Filed 9-15-06; 8:45 am]

BILLING CODE 4310-55-P